DEPARTMENT OF DEFENSE

Office of the Secretary

[Docket ID: DoD-2025-OS-0045]

Proposed Collection; Comment Request

AGENCY: Office of the Under Secretary of Defense for Intelligence and Security (OUSD(I&S)), Department of Defense (DoD).

ACTION: 60-Day information collection notice.

SUMMARY: In compliance with the Paperwork Reduction Act of 1995, the Defense Counterintelligence and Security Agency (DCSA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 5, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Counterintelligence and Security Agency (DCSA), 601 10th Street, Fort Meade, MD 20755, ATTN: Quality Management Oversight, or call 301-833-1331.

SUPPLEMENTARY INFORMATION:

Title; Associated Form; and OMB Number: Investigative Interview Survey; OMB Control Number 0705-0004.

Needs and Uses: The information collected on the Investigative Interview Survey (IIS) form is used to evaluate the investigative procedure exhibited by the investigator, the investigator's professionalism, and the information discussed and reported by Federal or Federal contract investigator. Completion of the IIS is voluntary. No personally identifiable information (PII) is collected in the IIS, however, there may be some instances when a respondent reports PII despite that survey instructions reflect not to provide PII. The IIS is mailed by DCSA, to a random sampling of record and personal sources who were contacted during the background investigation process by investigators performing fieldwork. The IIS is used as a quality control instrument designed to ensure the accuracy and integrity of the investigative product. In addition to the preformatted response options, DCSA invites the recipients to respond with any other relevant comments or suggestions. Results from the IIS are disseminated internally within the agency.

Affected Public: Individuals or households.

Annual Burden Hours: 3,530.

Number of Respondents: 35,300.

Responses per Respondent: 1.

Annual Responses: 35,300.

Average Burden per Response: 6 minutes.

Frequency: On occasion.

Dated: July 1, 2025.
Stephanie J. Bost,
Alternate OSD Federal Register Liaison Officer, Department of Defense.

[FR Doc. 2025-12501 Filed 7-3-25; 8:45 am]

BILLING CODE 6001-FR-P